DEPARTMENT OF ENERGY

Office of Energy Efficiency and Renewable Energy

10 CFR Part 430

Energy Conservation Program for Consumer Products and Commercial and Industrial Equipment

AGENCY: Office of Energy Efficiency and Renewable Energy, Department of Energy.

ACTION: Notice of public meeting and availability.

SUMMARY: The Department of Energy (DOE or Department) will hold an informal public meeting to discuss the priorities of the existing program and any possible expansion of the scope of the program to include additional consumer products and commercial and industrial equipment for either standards or voluntary programs. The Department is interested in receiving suggestions on the criteria, data, and analysis methods it should use to reach decisions on these issues, and comments on the FY 2005 Preliminary Priority-Setting Summary Report and Actions Proposed which includes data sheets for potential new products, revised data sheets for existing products, the FY 2005 Technical Support Document (TSD), and actions proposed.

DATES: The Department will hold a public meeting on Wednesday, June 9, 2004, from 9 a.m. to 4 p.m. Please submit written comments by Friday, July 9, 2004.

ADDRESSES: The meeting will be held at the U.S. Department of Energy, Forrestal Building, Room 1E-245, 1000 Independence Avenue, SW., Washington, DC 20585. (Please note that foreign nationals visiting DOE headquarters are subject to advance security screening procedures. If you are a foreign national and wish to participate in the meeting, please inform DOE of this fact as soon as possible by contacting Ms. Brenda Edwards-Jones at (202) 586-2945 to complete the necessary procedures.)

The Department placed on the DOE Web site at http://www.eere.energy.gov/buildings/appliance_standards/ the FY 2005 Preliminary Priority-Setting Summary Report and Actions Proposed containing the new data sheets, the FY 2005 TSD, and a letter discussing the proposed prioritization for FY 2005 which lists the priority for standards and test procedure rulemakings for products that are currently mandated by statute and possible new products that have been identified by various stakeholders or included in proposed legislation.

Written comments are welcome, especially following the meeting. The Department will accept comments, data, and information regarding this priority-setting no later than the date provided in the DATES section.

You may submit comments, identified for the FY 2005 Appliance Standards Prioritization, by any of the following methods:

• Federal eRulemaking Portal: http://www.regulations.gov. Follow the instructions for submitting comments.

• E-mail: prioritysetting2005@ee.doe.gov. Include FY 2005 Appliance Standards Prioritization in the subject line of the message.

• Mail: Ms. Brenda Edwards-Jones, U.S. Department of Energy, Building Technologies Program, Mailstop EE-2J, FY 2005 Appliance Standards Prioritization, 1000 Independence Avenue, SW., Washington, DC, 20585-0121. Telephone: (202) 586-2945. Please submit one signed paper original.

• Hand Delivery/Courier: Ms. Brenda Edwards-Jones, U.S. Department of Energy, Building Technologies Program, Room 1J-018, 1000 Independence Avenue, SW., Washington, DC, 20585.

Instructions: All submissions received must include the agency name and reference the FY 2005 Appliance Standards Prioritization. Submit electronic comments in WordPerfect, Microsoft Word, PDF, or text (ASCII) format file; avoid the use of special characters or any form of encryption; and, wherever possible, include the electronic signature of the author. If you don't include an electronic signature, you must authenticate comments by thereafter submitting the signed original paper document. No telefacsimiles (telefaxes) will be accepted.

Docket: For access to the docket to read background documents or comments received, go to the U.S. Department of Energy, Forrestal Building, Room 1J-018 (Resource Room of the Building Technologies Program), 1000 Independence Avenue, SW., Washington, DC, (202) 586-9127, between 9 a.m. and 4 p.m., Monday through Friday, except Federal holidays. Please call Ms. Brenda Edwards-Jones at the above telephone number for additional information regarding visiting the Resource Room. Please note: The Department's Freedom of Information Reading Room (formerly Room 1E-190 at the Forrestal Building) is no longer housing rulemaking materials.

FOR FURTHER INFORMATION CONTACT: Barbara Twigg, U.S. Department of Energy, Office of Energy Efficiency and Renewable Energy, EE-2J, 1000 Independence Avenue, SW., Washington, DC 20585-0121, (202) 586-9611, e-mail: Barbara.Twigg@ee.doe.gov; or Francine Pinto, Esq., or Thomas DePriest, Esq., U.S. Department of Energy, Office of General Counsel, GC-72, 1000 Independence Avenue, SW., Washington, DC 20585, (202) 586-9507, e-mail: Francine.Pinto@hq.doe.gov, or Thomas.DePriest@hq.doe.gov, respectively.

SUPPLEMENTARY INFORMATION: In May 2001, the National Energy Policy Development Group reported a National Energy Policy (NEP) to the President. One of the NEP's recommendations called for the President to direct the Secretary of Energy to take steps to improve the energy efficiency of appliances. The recommendation included supporting the existing appliance standards program, setting higher standards where technologically feasible and economically justified, and expanding the scope of the program to include additional consumer products and commercial and industrial equipment where technologically feasible and economically justified.

The Department reevaluates program priorities on an annual basis. On October 1, 2003, DOE completed and distributed the Fiscal Year 2004 priorities based on stakeholder comments regarding priorities drawn from appliance energy data sheets updated from the original FY 2003 Priority-Setting Summary Report and Actions Proposed, dated August 22, 2002. This year, the Department has conducted a more comprehensive updating of the FY 2003 report and has posted the new report, FY 2005 Preliminary Priority-Setting Summary Report and Actions Proposed, on its website for stakeholder comment. This includes draft data sheets on potential new covered products. The Department requests comments on these new products.

The June 9, 2004, public meeting will provide an opportunity to discuss the Department's draft priorities for FY 2005, the new and revised data sheets which support those draft priorities, potential new covered products, and the factors, data, and analysis methods that DOE uses, or might use in its decision-making process. The Department will consider these comments as it determines which products do not merit further consideration at this time for either a standard or a voluntary program, and as DOE assigns existing and new products a priority ranking. Prioritization will by necessity reflect funding and staffing constraints which limit how many rulemakings DOE can pursue.

The meeting will be conducted in an informal, conference style. There will not be any discussion of proprietary information, costs or prices, market shares, or other commercial matters regulated by the U.S. antitrust laws.

After the meeting and expiration of the period for submitting written statements, the Department will consider the comments received.

If you would like to participate in the meeting or be added to the DOE mailing list to receive future notices and information regarding the energy conservation program for consumer products and commercial and industrial equipment, please contact Ms. Brenda Edwards-Jones at (202) 586-2945.

Issued in Washington, DC, on April 27, 2004.
Douglas L. Faulkner,
Principal Deputy Assistant Secretary, Energy Efficiency and Renewable Energy.

[FR Doc. 04-9830 Filed 4-29-04; 8:45 am]

BILLING CODE 6450-01-P